DEPARTMENT OF DEFENSE

Office of the Secretary

[Transmittal Nos. 12-28]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-28 with attached transmittal, policy justification, and Sensitivity of Technology.

Dated: June 26, 2012.
Aaron Siegel,
Alternate OSD Federal Register Liaison Officer, Department of Defense.

BILLING CODE 5001-06-P

BILLING CODE 5001-06-C

Transmittal No. 12-28

Notice of Proposed Issuance of Letter of Offer Pursuant to Section 36(b)(1) of the Arms Export Control Act, as amended

(i) Prospective Purchaser: Morocco

(ii) Total Estimated Value:

Major Defense Equipment* | $.074 billion.
Other | .941 billion.
Total | 1.015 billion.
* As defined in Section 47(6) of the Arms Export Control Act.

(iii) Description and Quantity or Quantities of Articles or Services under Consideration for Purchase: enhancement and refurbishment of 200 M1A1 Abrams tanks, provided as part of a grant Excess Defense Article (EDA) transfer notified to Congress on 27 April 2011, to the M1A1 Special Armor (SA) configuration. The proposed sale also includes 150 AN/VRC-87E and 50 AN/VRC-89E Exportable Single Channel Ground and Airborne Radio Systems (SINCGARS), 200 M2 Chrysler Mount Machine Guns, 400 7.62MM M240 Machine Guns, 12,049,842 Ammunition Rounds (including 1400 C785 SABOT, 1800 CA31 HEAT, and 5400 AA38 SLAP-T), 200 M250 Smoke Grenade Launchers, support equipment, spare and repair parts, personnel training and training equipment, publications and technical data, communication support, U.S. Government and contractor technical assistance, and other related logistics support.

(iv) Military Department: Army (USQ)

(v) Prior Related Cases, if any: None

(vi) Sales Commission, Fee, etc., Paid, Offered, or Agreed to be Paid: None

(vii) Sensitivity of Technology Contained in the Defense Article or Defense Services Proposed to be Sold: See attached Annex

(viii) Date Report Delivered to Congress: 18 June 2012

POLICY JUSTIFICATION

Kingdom of Morocco—M1A1 SA Abrams Tank Enhancement, Support and Equipment

The Government of the Kingdom of Morocco has requested a possible enhancement and refurbishment of 200 M1A1 Abrams tanks, provided as part of a grant Excess Defense Article (EDA) transfer notified to Congress on 27 April 2011, to the M1A1 Special Armor (SA) configuration. The possible sale will also provide 150 AN/VRC-87E and 50 AN/VRC-89E Exportable Single Channel Ground and Airborne Radio Systems (SINCGARS), 200 M2 Chrysler Mount Machine Guns, and 400 7.62MM M240 Machine Guns. The possible sale also includes 12,049,842 Ammunition Rounds (including 1400 C785 SABOT, 1800 CA31 HEAT, and 5400 AA38 SLAP-T), 200 M250 Smoke Grenade Launchers, support equipment, spare and repair parts, personnel training and training equipment, publications and technical data, communication support, U.S. Government and contractor technical assistance, and other related logistics support. The estimated cost is $1.015 billion.

This proposed sale will contribute to the foreign policy and national security of the United States by helping to improve the security of a major Non-NATO ally that continues to be an important force for political stability and economic progress in Africa.

This package of M1A1 tank enhancements will contribute to the modernization of Morocco's tank fleet, enhancing its ability to meet current and future threats. These tanks will contribute to Morocco's goal of updating its military capability while further enhancing interoperability with the U.S. and other allies.

The proposed sale of this equipment and support will not alter the basic military balance in the region.

The prime contractor will be General Dynamics Land Systems in Sterling Heights, Michigan. Refurbishment work will be performed at Anniston Army Depot in Anniston, Alabama and the Joint Systems Manufacturing Center in Lima, Ohio. There are no known offset agreements proposed in connection with this potential sale.

Implementation of this proposed sale will require annual trips to Morocco involving up to 64 U.S. Government and 13 contractor representatives for a period of up to five years to manage the fielding and training for the program.

There will be no adverse impact on U.S. defense readiness as a result of this proposed sale.

Transmittal No. 12-28

Notice of Proposed Issuance of Letter of Offer Pursuant to Section 36(b)(1) of the Arms Export Control Act

Annex

Item No. vii

(vii) Sensitivity of Technology:

1. The M1A1 Abrams Tanks components considered to contain sensitive technology in the proposed program are as follows:

a. The M1A1 Thermal Imaging System (TIS) 2nd Gen Forward Looking Infrared (FLIR) constitutes a target acquisition system which, when operated with other tank systems, gives the tank crew a substantial advantage over the potential threat. The TIS provides the M1A1 crew with the ability to effectively aim and fire the tank main armament system under a broad range of adverse battlefield conditions. The hardware itself is Unclassified. The engineering design and manufacturing data associated with the detector and infrared (IR) optics and coatings are considered sensitive. The technical data package is Unclassified with the exception of the specifications for target acquisition range (Confidential), nuclear hardening (Confidential, restricted data) and laser hardening (Secret).

b. The M1A1 Tank Special Armor and other special armors used in the hull and turret are classified at the Secret level. Major components of Special Armor are fabricated in sealed modules and in serialized removable subassemblies. Special Armor components and associated vulnerability data for both chemical and kinetic energy rounds are classified Secret.

c. The use of the Advanced Gas Turbine-1500 (AGT-1500) Gas Turbine Propulsion System in the MlA1 is a unique application of armored vehicle power pack technology. The hardware is composed of the AGT-1500 engine and transmission, and is Unclassified. Manufacturing processes associated with the production of turbine blades, recuperator, bearings and shafts, and hydrostatic pump and motor, are proprietary and therefore commercially competition sensitive.

d. A major survivability feature of the Abrams Tank is the compartmentalization of fuel and ammunition. Compartmentalization is the positive separation of the crew and critical components from combustible materials. In the event that the fuel or ammunition is ignited or deteriorated by an incoming threat round, the crew is fully protected by the compartmentalization. Sensitive information includes the performance of the ammunition compartments as well as the compartment design parameters.

2. If a technologically advanced adversary were to obtain knowledge of the specific hardware and software elements, the information could be used to develop countermeasures or equivalent systems which might reduce weapon system effectiveness or be used in the development of a system with similar or advanced capabilities.

[FR Doc. 2012-15988 Filed 6-28-12; 8:45 am]

BILLING CODE 5001-06-P